NUCLEAR REGULATORY COMMISSION

10 CFR Chapter I

[NRC-2017-0214]

Review of Administrative Rules

AGENCY: Nuclear Regulatory Commission.

ACTION: Request for comment.

SUMMARY: The U.S. Nuclear Regulatory Commission (NRC) is initiating a retrospective review of administrative requirements to identify outdated or duplicative administrative requirements that may be eliminated without an adverse effect on public health or safety, common defense and security, protection of the environment, or regulatory efficiency and effectiveness. The NRC is providing an outline of its strategy and is seeking public comment on the criteria that the NRC proposes to use to identify administrative regulations for possible elimination. This retrospective review of administrative regulations will complement the NRC's existing strategy for retrospective analysis of existing regulations.

DATES: Submit comments by July 2, 2018. Comments received after this date will be considered if it is practical to do so, but the Commission is able to ensure consideration only for comments received before this date. The NRC will not prepare written responses to each individual comment, due to the NRC's schedule for completing the retrospective review of administrative regulations.

ADDRESSES: You may submit comments by any of the following methods:

• Federal Rulemaking website: Go to http://www.regulations.gov and search for Docket ID NRC-2017-0214. Address questions about NRC dockets to Ms. Carol Gallagher; telephone: 301-415-3463; email: Carol.Gallagher@nrc.gov. For technical questions contact the individuals listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Ms. Margaret S. Ellenson, Office of Nuclear Material Safety and Safeguards; telephone: 301-415-0894; email: Margaret.Ellenson@nrc.gov; or Mr. Andrew Carrera, Office of Nuclear Material Safety and Safeguards; telephone: 301-415-1078; email: Andrew.Carrera@nrc.gov; both are staff of the U.S. Nuclear Regulatory Commission, Washington, DC 20555-0001.

SUPPLEMENTARY INFORMATION:

I. Obtaining Information and Submitting Comments

A. Obtaining Information

Please refer to Docket ID NRC-2017-0214 when contacting the NRC about the availability of information for this action. You may obtain publicly-available information related to this action by any of the following methods:

• Federal Rulemaking website: Go to http://www.regulations.gov and search for Docket ID NRC-2017-0214.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2017-0214 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

On August 11, 2017, the NRC announced that the agency is initiating, beginning in the fall of the calendar year 2017, a retrospective review of its administrative regulations to identify those rules that are outdated or duplicative. Once identified, the regulations will be evaluated to determine whether they can be eliminated without impacting the agency's mission. The retrospective review supports the NRC's ongoing regulatory planning and retrospective analysis of existing regulations (ADAMS Accession No. ML14002A441).

The Retrospective Review of Administrative Regulations Strategy

On November 22, 2017, the NRC staff issued SECY-17-0119, “Retrospective Review of Administrative Regulations” (ADAMS Accession No. ML17286A069), which provided for Commission approval the NRC staff's proposed strategy for the retrospective review of regulations. The staff requirements memorandum associated with SECY-17-0119 approved the NRC staff's proposal and directed staff to implement the strategy. Overall, the goal of the retrospective review is to enhance the management and administration of regulatory activities and to ensure that the agency's regulations remain current and effective. The review is intended to identify regulatory changes that are administrative in nature that will make the information submittal, record keeping, and reporting processes more efficient for the staff, applicants, and licensees. The strategy takes into consideration the agency's overall statutory responsibilities, including mandates to issue new regulations, the number of regulations in chapter I of title 10 of the Code of Federal Regulations, and available resources. This effort will not impact the NRC's mission, as it will be limited to identifying outdated or duplicative, non-substantive administrative regulations.

III. Discussion

This notice provides an outline of the NRC's approved strategy for the retrospective review (see Table 1) and requests public comment on the criteria the NRC proposes to use to evaluate potential changes to the requirements. In summary, the retrospective review strategy involves seven steps—(1) developing criteria to evaluate potential regulatory changes to administrative requirements; (2) gathering NRC staff input on administrative regulations that might fit the proposed criteria; (3) reviewing historical correspondence documents submitted to the NRC related to eliminating duplicative or outdated administrative regulations; (4) including opportunities for public comment; (5) interacting with the public throughout the review process by conducting public meetings; (6) reviewing stakeholder input; and (7) developing rules or rulemaking plans to eliminate or modify administrative requirements, as appropriate.

Table 1—Retrospective Review Activity Description and Timeline
Action | Description | Approximate completion timeframe
Step 1: Develop Evaluation Criteria | Develop criteria to ensure administrative regulations are evaluated in a consistent manner. The criteria will be used as guides to determine whether the administrative requirement is duplicative or outdated and if the requirement(s) should be considered for potential elimination or modification. The criteria are being disseminated to external stakeholders for comment via this notice and will be discussed in a public meeting | Finalize criteria after close of public comment period for this notice and after final review and approval by the Commission.
Step 2: Gather NRC Staff Input | Provide an email address or other mechanism for NRC staff to provide input on administrative requirements that may be outdated or duplicative and that the Commission should consider for elimination or modification | Concurrently with request for public input as outlined in Steps 1 and 4.
Step 3: Historical Correspondence Review | Review relevant historical letters received from members of the public, other Federal agencies, State and local governments, Federally-recognized Tribes, non-governmental organizations, and representative industry groups related to eliminating duplicative or outdated administrative regulations | Beginning concurrent with Step 4.
Step 4: Request for Public Input on Outdated or Duplicative Administrative Requirements | Request public input to identify administrative requirements that may be outdated or duplicative and that the Commission should consider for elimination or modification. The comment period will be open for a period of approximately 60 days | Within 4 months after the public comment period closes for this notice.
Step 5: Conduct Public Meetings | Schedule public meetings (in-person, webinar, and teleconference-capable) during the comment periods to provide awareness and answer questions to clarify the purpose and scope of the activity. Although verbal comments will not be accepted during the meetings, staff will provide instruction on how attendees can submit written comments | Meetings will be held during the public comment period for this notice and during the public comment period for the second notice (Step 4).
Step 6: Review Input | Compile and analyze the input and assign to the regulation “owner” for the assigned office to review each proposal to determine if it has merit | Initial review and assignment of the input will be targeted for after completion of the public meetings (Step 5). Recommendations (i.e., no action or accept for regulatory change) should be submitted to the Commission for its review and approval within 18 months after initiation of the activities.
Step 7: Develop Rulemaking Activities to Eliminate or Modify Requirements | For any administrative requirements that have been identified for elimination or modification, the potential outcomes could include: • A consolidated administrative rulemaking; • Inclusion into an existing planned rulemaking; or • A stand-alone specific rulemaking | The schedule for any rulemaking activities will be determined using the budget and rulemaking prioritization methodologies. Rulemaking plans will be submitted to the Commission for its review and approval.

Public input will be critical to identifying potential changes to administrative requirements as well as to provide data on the benefits and costs of existing NRC administrative regulations. The NRC will conduct two public meetings to discuss the retrospective review process and recommendations. In addition, the NRC will seek input from the NRC's existing committees (the Committee to Review Generic Requirements, Advisory Committee on Reactor Safeguards, and the Advisory Committee on the Medical Uses of Isotopes), other Federal agencies, State and local governments, Federally-recognized Tribes, and non-governmental organizations. All input that the NRC receives will be used to inform the retrospective review recommendations.

For the purpose of this review, administrative regulations are those that impose recordkeeping or reporting requirements or address areas of agency organization, procedure, or practice. Consistent with Step 1 of the strategy, the NRC developed the draft criteria and goals listed below to evaluate potential regulatory changes of this nature. The evaluation criteria would serve as factors of consideration to guide the staff's decisionmaking. The staff is not proposing to use the criteria to make stand-alone determinations. Instead, the criteria will be weighed against other activities outlined in the strategy, such as staff programmatic experience and, comments received, and the correspondence review. Draft criteria 1-3 are intended to “screen-in” regulations for inquiry for potential elimination or modification, as they address whether a regulation is outdated or duplicative. These screening-in criteria are not intended to be mutually exclusive. A given regulation may satisfy one or more of the criteria. Draft criterion 4 is intended to “screen-out” regulations from further inquiry or for potential elimination or modification so as to avoid unintended consequences. Specific points about which the NRC seeks public comment are described in the Section IV, “Specific Questions,” of this document.

Draft Criteria for Selecting Changes to Administrative Requirements

1. Routine and periodic recordkeeping and reporting requirements, such as directives to submit recurring reports, which the NRC has not consulted or referenced in programmatic operations or policy development in the last 3 years.

The goal of this criterion is to identify outdated requirements for information collection.

2. Reports or records that contain information reasonably accessible to the agency from alternative resources or routine reporting requirements where less frequent reporting would meet programmatic needs.

The goal of this criterion is to identify duplicative information or overused collection requirements.

3. Recordkeeping and reporting requirements that result in significant burden. For example, more than $100,000 overall per potential regulatory change; or over 1,000 reporting hours for each affected individual or entity over a 3-year period; or 10 hours for each affected individual or entity each calendar year or per application.

The goal of this criterion is to ensure that elimination or modification of outdated or duplicative recordkeeping and reporting requirements could result in appreciable reductions in burden for the NRC, licensees, or both. The criterion is not intended to be used as a stand-alone consideration, but rather as a tool to ensure that the retrospective review is focused on efforts that will in fact result in a reduction in burden.

4. Reports or records that contain information used by other Federal agencies, State and local governments, or Federally-recognized Tribes will be eliminated from the review.

The goal of this criterion is to decrease the potential for unintended consequences. For example, the NRC collects certain information on behalf of other government agencies. It is not the intent of this effort to change that practice.

IV. Specific Questions

The NRC is providing an opportunity for the public to submit information and comments on the criteria that the NRC proposes to use to identify administrative requirements for potential modification or elimination. You may suggest other criteria; please provide supporting rationale for any alternative criteria you recommend that the NRC use in conducting its review. The NRC is particularly interested in gathering input in the following areas:

1. Do the proposed evaluation criteria serve the purposes described in this notice? Why or why not?

2. The NRC is considering whether the burden reduction minimum is appropriate. Is “significant burden” the appropriate measure? Are the examples given for Criterion 3 appropriate or useful? Should the NRC use different bases for measuring “significant burden,” and if so, what are these measures and how would they result in a more accurate or complete measurement of burden?

3. The NRC is considering multiple thresholds for different classes of regulated entities, as a single threshold might not be useful to identify burden reductions for all licensee types. What is the appropriate threshold for your entity class (e.g., operating reactor, industrial radiographer, fuel cycle facility)?

4. Are there other evaluation criteria the NRC should consider using in its retrospective review of administrative regulations? What are those criteria and why?

V. Public Meetings

Public input will be critical to identifying potential regulatory changes as well as to provide data on the benefits and costs of existing NRC regulations. The NRC will conduct two public meetings to discuss the Retrospective Review process and recommendations.

The NRC will publish a notice of the location, time, and agenda of any meetings in the Federal Register, on www.Regulations.gov, and on the NRC's public meeting website at least 10 calendar days before the meeting. Stakeholders should monitor the NRC's public meeting website for information about the public meeting at: http://www.nrc.gov/public-involve/public-meetings/index.cfm.

Dated at Rockville, Maryland, this 27th day of April, 2018.
For the Nuclear Regulatory Commission.
Annette L. Vietti-Cook,
Secretary of the Commission.

[FR Doc. 2018-09359 Filed 5-2-18; 8:45 am]

BILLING CODE 7590-01-P